DEPARTMENT OF HEALTH AND HUMAN SERVICES

Administration for Children and Families

[CFDA Number 93.652]

Announcement of the Award of a Single-Source Program Expansion Supplement Grant to the Regents of the Board of the University of Michigan in Ann Arbor, MI

AGENCY: Children's Bureau, Administration on Children, Youth and Families, Administration for Children and Families, Health and Human Services.

ACTION: Announcement of the award of a single-source program expansion supplement grant to the Regents of the Board of the University of Michigan in Ann Arbor, MI, to support the National Quality Improvement Center on the Representation of Children in the Child Welfare System in providing additional training, technical assistance and support to multiple research and demonstration sites.

SUMMARY: The Administration for Children and Families (ACF), Children's Bureau (CB) announces the award of a single-source year program expansion supplement in the amount of $250,000 to the Regents of the Board of the University of Michigan, Ann Arbor, MI, to provide more intensive technical assistance and conduct a rigorous evaluation of research and demonstration sites.

DATES: September 30, 2012 through September 29, 2013.

FOR FURTHER INFORMATION CONTACT: Jane Morgan, Children's Bureau, 1250 Maryland Avenue SW., Washington, DC 20024. Telephone: 202-205-8807; Email: jane.morgan@acf.hhs.gov.

SUPPLEMENTARY INFORMATION: The Regents of the University of Michigan administers the National Quality Improvement Center on the Representation of Children in the Child Welfare System (QIC-ChildRep) under a cooperative agreement. The purpose of the QIC-ChildRep is to improve the quality of legal representation for children and youth in child welfare cases so the States and Tribes achieve the best safety, permanency and well-being outcomes for children and youth. This systems improvement model supports three research and demonstration sites, each involving a rigorous evaluation. Given the complexity of the models being implemented, considerable training, technical assistance, monitoring and support are necessary for each site to design and implement evaluation plans. Program expansion supplement funds will allow for an increased level of effort in conducting the evaluations in order to meet the requirements of the cooperative agreement. Additional training, technical assistance, and support to each research and demonstration site, coupled with more intensive monitoring of site specific evaluation efforts, will enhance the depth and rigor of all evaluation results.

The supplemental funding will also afford QIC-ChildRep the opportunity to provide new or modified technical assistance to assist States and Tribes in implementing the Administration on Children, Youth and Families' well-being framework in the context of the new requirements of the Child and Family Services Improvement and Innovation Act (Pub. L. 112-34).

Statutory Authority: Section 203 (42 U.S.C. 5113) of the Child Abuse Prevention and Treatment and Adoption Reform Act (CAPTA) of 1978, (Pub. L. 95-266), as amended.

Bryan Samuels,
Commissioner, Administration on Children, Youth and Families.

[FR Doc. 2012-26305 Filed 10-24-12; 8:45 am]

BILLING CODE 4184-29-P